DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Jefferson (FEMA Docket No.: B-1421) | City of Clay (14-04-2938P) | The Honorable Charles Webster, Mayor, City of Clay, P.O. Box 345, Clay, AL 35048 | City Hall, 2441 Old Springville Road, Birmingham, AL 35125 | August 14, 2014 | 010446
Jefferson (FEMA Docket No.: B-1421) | Unincorporated areas of Jefferson County (14-04-2938P) | The Honorable David Carrington, Chairman, Jefferson County Commission, 716 Richard Arrington Jr., Boulevard North, Birmingham, AL 35203 | Jefferson County Land Development Department, 716 North 21st Street, Room 202A, Birmingham, AL 35263 | August 14, 2014 | 010217
Arizona:
Maricopa (FEMA Docket No.: B-1421) | City of Peoria (14-09-0517P) | The Honorable Bob Barrett, Mayor, City of Peoria, 8401 West Monroe Street, Peoria, AZ 85345 | City Hall, 8401 West Monroe Street, Peoria, AZ 85345 | August 1, 2014 | 040050
Pinal (FEMA Docket No.: B-1421) | Unincorporated areas of Pinal County (14-09-0882P) | The Honorable Anthony Smith, Chairman, Pinal County Board of Supervisors, 41600 West Smith Enke Road, Suite 128, Maricopa, AZ 85138 | Pinal County Engineering Department, 31 North Pinal Street, Building F, Florence, AZ 85232 | August 8, 2014 | 040077
California:
Riverside (FEMA Docket No.: B-1423) | City of Corona (13-09-3138P) | The Honorable Karen Spiegel, Mayor, City of Corona, 400 South Vincentia Avenue, Corona, CA 92882 | City Hall, 400 South Vincentia Avenue, Corona, CA 92882 | August 18, 2014 | 060250
Riverside (FEMA Docket No.: B-1423) | Unincorporated areas of Riverside County (13-09-3138P) | The Honorable Jeff Stone, Chairman, Riverside County Board of Supervisors, 4080 Lemon Street, 5th Floor, Riverside, CA 95201 | Riverside County Flood Control and Water Conservation District, 1995 Market Street, Riverside, CA 95201 | August 18, 2014 | 060245
San Bernardino (FEMA Docket No.: B-1423) | City of Apple Valley (13-09-2728P) | The Honorable Art Bishop, Mayor, City of Apple Valley, 14955 Dale Evans Parkway, Apple Valley, CA 92307 | Engineering Department, 14955 Dale Evans Parkway, Apple Valley, CA 92307 | August 15, 2014 | 060752
San Bernardino (FEMA Docket No.: B-1423) | City of Hesperia (13-09-2728P) | The Honorable Thurston Smith, Mayor, City of Hesperia, 9700 7th Avenue, Hesperia, CA 92345 | City Hall, 9700 7th Avenue, Hesperia, CA 92345 | August 15, 2014 | 060733
San Bernardino (FEMA Docket No.: B-1423) | City of Victorville (13-09-2728P) | The Honorable Jim Cox, Mayor, City of Victorville, P.O. Box 5001, Victorville, CA 92393 | Engineering Division, Public Works Department, 14343 Civic Drive, Victorville, CA 92393 | August 15, 2014 | 065068
San Bernardino (FEMA Docket No.: B-1423) | Unincorporated areas of San Bernardino County (13-09-2728P) | The Honorable Janice Rutherford, Chair, San Bernardino County Board of Supervisors, 385 North Arrowhead Avenue, 5th Floor, San Bernardino, CA 92415 | San Bernardino County Public Works Department, 825 East 3rd Street, San Bernardino, CA 92415 | August 15, 2014 | 060270
San Diego (FEMA Docket No.: B-1423) | City of San Marcos (13-09-2932P) | The Honorable Jim Desmond, Mayor, City of San Marcos, 1 Civic Center Drive, San Marcos, CA 92069 | City Hall, 1 Civic Center Drive, San Marcos, CA 92069 | August 21, 2014 | 060296
San Diego (FEMA Docket No.: B-1423) | Unincorporated areas of San Diego County (13-09-2932P) | The Honorable Dianne Jacob, Chair, San Diego County Board of Supervisors, 1600 Pacific Highway, Suite 335, San Diego, CA 92101 | San Diego County Department of Public Works, 5510 Overland Avenue, Suite 410, San Diego, CA 92123 | August 21, 2014 | 060284
Colorado:
Boulder (FEMA Docket No.: B-1423) | City of Longmont (13-08-1185P) | The Honorable Dennis L. Coombs, Mayor, City of Longmont, 350 Kimbark Street, Longmont, CO 80501 | Public Works Department, 1100 South Sherman Street, Longmont, CO 80501 | August 21, 2014 | 080027
Boulder (FEMA Docket No.: B-1423) | Unincorporated areas of Boulder County (13-08-1185P) | The Honorable Cindy Domenico, Chair, Boulder County Board of Commissioners, P.O. Box 471, Boulder, CO 80306 | Boulder County Transportation Department, 2525 13th Street, Suite 203, Boulder, CO 80306 | August 21, 2014 | 080023
Delta (FEMA Docket No.: B-1421) | City of Delta (14-08-0144P) | The Honorable Ed Sisson, Mayor, City of Delta, 360 Main Street, Delta, CO 81416 | City Hall, 360 Main Street, Delta, CO 81416 | August 7, 2014 | 080043
Florida:
Collier (FEMA Docket No.: B-1423) | City of Naples (14-04-0880P) | The Honorable John Sorey, III, Mayor, City of Naples, 735 8th Street South, Naples, FL 34102 | Building Department, 295 Riverside Circle, Naples, FL 34102 | August 11, 2014 | 125130
Lee (FEMA Docket No.: B-1421) | Unincorporated areas of Lee County (14-04-3452X) | The Honorable Larry Kiker, Chairman, Lee County Board of Commissioners, 2115 2nd Street, Fort Myers, FL 33901 | Lee County Community Development Department, 1500 Monroe Street, 2nd Floor, Fort Myers, FL 33901 | August 1, 2014 | 125124
Monroe (FEMA Docket No.: B-1423) | Unincorporated areas of Monroe County (14-04-1710P) | The Honorable Sylvia Murphy, Mayor, Monroe County, 1100 Simonton Street, Key West, FL 33040 | Monroe County Department of Planning and Environmental Resources, 2798 Overseas Highway, Marathon, FL 33050 | August 11, 2014 | 125129
Monroe (FEMA Docket No.: B-1423) | Unincorporated areas of Monroe County (14-04-2295P) | The Honorable Sylvia Murphy, Mayor, Monroe County, 1100 Simonton Street, Key West, FL 33040 | Monroe County Department of Planning and Environmental Resources, 2798 Overseas Highway, Marathon, FL 33050 | August 11, 2014 | 125129
Monroe (FEMA Docket No.: B-1423) | Unincorporated areas of Monroe County (14-04-3390P) | The Honorable Sylvia Murphy, Mayor, Monroe County, 1100 Simonton Street, Key West, FL 33040 | Monroe County Department of Planning and Environmental Resources, 2798 Overseas Highway, Marathon, FL 33050 | August 15, 2014 | 125129
Orange (FEMA Docket No.: B-1421) | City of Orlando (13-04-4686P) | The Honorable Buddy Dyer, Mayor, City of Orlando, P.O. Box 4990, Orlando, FL 32802 | Permitting Services Division, 400 South Orange Avenue, Orlando, FL 32801 | August 8, 2014 | 120186
Orange (FEMA Docket No.: B-1421) | City of Winter Park (13-04-4686P) | The Honorable Kenneth W. Bradley, Mayor, City of Winter Park, 401 South Park Avenue, Winter Park, FL 32789 | Building Department, 401 South Park Avenue, Winter Park, FL 32789 | August 8, 2014 | 120188
Orange (FEMA Docket No.: B-1421) | Unincorporated areas of Orange County (13-04-4686P) | The Honorable Teresa Jacobs, Mayor, Orange County, 201 South Rosalind Avenue, 5th Floor, Orlando, FL 32801 | Orange County Stormwater Management Department, 4200 South John Young Parkway, Orlando, FL 32839 | August 8, 2014 | 120179
Seminole (FEMA Docket No.: B-1423) | Unincorporated areas of Seminole County (14-04-2923P) | The Honorable Bob Dallari, Chairman, Seminole County Board of Commissioners, 1101 East 1st Street, Sanford, FL 32771 | Seminole County Public Works Department, 1101 East 1st Street, Sanford, FL 32771 | August 15, 2014 | 120289
Sumter (FEMA Docket No.: B-1423) | City of Wildwood (14-04-2261P) | The Honorable Ed Wolf, Mayor, City of Wildwood, 100 North Main Street, Wildwood, FL 34785 | Development Services Department, 100 North Main Street, Wildwood, FL 34785 | August 8, 2014 | 120299
Sumter (FEMA Docket No.: B-1423) | Unincorporated areas of Sumter County (14-04-2261P) | The Honorable Al Butler, Chairman, Sumter County Board of Commissioners, 7375 Powell Road, Wildwood, FL 34785 | Sumter County Development Department, 7375 Powell Road, Wildwood, FL 34785 | August 8, 2014 | 120296
Sumter (FEMA Docket No.: B-1421) | Unincorporated areas of Sumter County (14-04-3677P) | The Honorable Al Butler, Chairman, Sumter County Board of Commissioners, 7375 Powell Road, Wildwood, FL 34785 | Sumter County Development Department, 7375 Powell Road, Wildwood, FL 34785 | August 1, 2014 | 120296
Kentucky:
Fayette (FEMA Docket No.: B-1423) | Lexington-Fayette Urban County Government (13-04-3690P) | The Honorable Jim Gray, Mayor, Lexington-Fayette Urban County Government, 200 East Main Street, Lexington, KY 40507 | Lexington-Fayette Urban County Government Division of Planning, 101 East Vine Street, Lexington, KY 40507 | August 18, 2014 | 210067
Nevada:
Clark (FEMA Docket No.: B-1421) | Unincorporated areas of Clark County (13-09-3209P) | The Honorable Steve Sisolak, Chairman, Clark County Board of Commissioners, 500 South Grand Central Parkway, Las Vegas, NV 89155 | Clark County Public Works Department, 500 Grand Central Parkway, Las Vegas, NV 89155 | August 1, 2014 | 320003
Douglas (FEMA Docket No.: B-1421) | Unincorporated areas of Douglas County (13-09-3099P) | The Honorable Doug Johnson, Chairman, Douglas County Board of Commissioners, P.O. Box 218, Minden, NV 89423 | Douglas County Planning Division, 1594 Ismeralda Avenue, Minden, NV 89423 | August 1, 2014 | 320008
New York:
Dutchess (FEMA Docket No.: B-1411) | Town of LaGrange (14-02-0734P) | The Honorable Alan Bell, Supervisor, LaGrange Town Board, 120 Stringham Road, LaGrangeville, NY 12540 | Town Hall, 120 Stringham Road, LaGrangeville, NY 12540 | August 11, 2014 | 361011
North Carolina:
Cumberland (FEMA Docket No.: B-1421) | City of Fayetteville (14-04-1195P) | The Honorable Nat Robertson, Mayor, City of Fayetteville, 433 Hay Street, Fayetteville, NC 28301 | Planning Department, 433 Hay Street, Fayetteville, NC 28301 | August 5, 2014 | 370077
Mecklenburg (FEMA Docket No.: B-1423) | Town of Davidson (12-04-5664P) | The Honorable John Woods, Mayor, Town of Davidson, P.O. Box 1929, Davidson, NC 28036 | Planning Department, 216 South Main Street, Davidson, NC 28036 | August 15, 2014 | 370503
Mecklenburg (FEMA Docket No.: B-1423) | Unincorporated areas of Mecklenburg County (12-04-5664P) | Ms. Dena Diorio, Mecklenburg County Manager, 600 East 4th Street, Charlotte, NC 28202 | Mecklenburg County Planning Department, 600 East 4th Street, Charlotte, NC 28202 | August 15, 2014 | 370158
Wake (FEMA Docket No.: B-1421) | City of Raleigh (13-04-5462P) | The Honorable Nancy McFarlane, Mayor, City of Raleigh, P.O. Box 590, Raleigh, NC 27602 | Public Works Department, 222 West Hargett Street, Raleigh, NC 27601 | August 18, 2014 | 370243
South Carolina:
Greenville (FEMA Docket No.: B-1423) | Unincorporated areas of Greenville County (13-04-8105P) | The Honorable Bob Taylor, Chairman, Greenville County Council, 301 University Ridge, Suite 2400, Greenville, SC 29601 | Greenville County Code Department, 301 University Ridge, Suite 4100, Greenville, SC 29601 | August 15, 2014 | 450089
South Dakota:
Pennington (FEMA Docket No.: B-1423) | City of Rapid City (13-08-1321P) | The Honorable Sam Kooiker, Mayor, City of Rapid City, 300 6th Street, Rapid City, SD 57701 | Planning Department, 300 6th Street, Rapid City, SD 57701 | August 21, 2014 | 465420

(Catalog of Federal Domestic Assistance No. 97.022, “Flood Insurance.”)

Dated: September 29, 2014.
Roy E. Wright,
Deputy Associate Administrator for Mitigation, Department of Homeland Security, Federal Emergency Management Agency.

[FR Doc. 2014-24478 Filed 10-14-14; 8:45 am]

BILLING CODE 9110-12-P